DEPARTMENT OF HOUSING AND URBAN DEVELOPMENT

[Docket No. FR-4649-N-11]

Notice of Proposed Information Collection: Comment Request, Disaster Recovery Grant Reporting (DRGR) System

AGENCY: Office of the Assistant Secretary for Community Planning and Development HUD.

ACTION: Notice.

SUMMARY: The proposed information collection requirement described below will be submitted to the Office of Management and Budget (OMB) for review, as required by the Paperwork Reduction Act. The Department is soliciting public comments on the subject proposal.

DATES: Comments Due Date: May 7, 2001.

ADDRESSES: Interested persons are invited to submit comments regarding this proposal. Comments should refer to the proposal by name and/or OMB Control Number and should be sent to: Reports Liaison Officer, Sheila E. Jones, U.S. Department of Housing and Urban Development, 451 7th Street, SW, Room 7230, Washington, DC 20410.

FOR FURTHER INFORMATION CONTACT: Jan C. Opper, Senior Program Officer, Office of Block Grant Assistance, U.S. Department of Housing and Urban Development, 451 Seventh St., SW, Washington, DC 20410; telephone number (202) 708-3587. Persons with hearing or speech impairments may access this number via TTY by calling the Federal Information Relay Service at (800) 877-8339. FAX inquiries may be sent to Mr. Opper at (202) 401-2044. (Except for the “800” number, these telephone numbers are not toll-free.)

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Disaster Recovery Grant Reporting (DRGR) System.

OMB Control Number, if applicable: 2506-0165.

Description of the need for the information and proposed use: HUD requires that grantees submit quarterly reports to the Department on the use of HUD Community Development Block Grant (CDBG) disaster recovery funds (a.k.a. HUD Disaster Recovery Initiative). This information must be submitted to HUD no later than 30 days following each calendar quarter. HUD uses the information to submit quarterly reports to the Congress that are required by Public Laws 105-18, 105-174, and 105-277. The reports to Congress must cover the use of grant funds, especially those for or associated with buyouts.

This reporting also meets the requirement that cities, counties, and states must submit a performance report on the use of CDBG disaster recovery funds in accordance with 42 U.S.C. 5304(e) and 24 CFR 91.520 no later than 90 days following the end of each 12 month period.

Agency form numbers, if applicable: Not applicable. This is a computerized data system operating on the worldwide web.

Members of affected public: State and local governments.

Estimation of the total numbers of hours needed to prepare the information collection including number of responses, frequency of response, and hours of response:

Number of respondents—about 160;

Frequency of response—quarterly per grantee;

Hours of response—128 hours annually per grantee (116 hours for record keeping; 12 hours for reporting).

Status of the proposed information collection: Reinstatement.

Authority: The Paperwork Reduction Act of 1995, 44 U.S.C. Chapter 35, as amended.

Dated: March 1, 2001.
Donna M. Abbenante,
Acting General Deputy Assistant Secretary.

[FR Doc. 01-5699 Filed 3-7-01; 8:45 am]

BILLING CODE 4210-29-M